DEPARTMENT OF HOMELAND SECURITY

Federal Emergency Management Agency

[Docket ID FEMA-2017-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of February 16, 2018 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Dated: November 2, 2017.
Roy E. Wright,
Deputy Associate Administrator for Insurance and Mitigation, Department of Homeland Security, Federal Emergency Management Agency.

Community | Community map repository address
Cameron County, Texas and Incorporated Areas
Docket No.: FEMA-B-1546 and FEMA-B-1655
City of Brownsville | Building and Permitting Division, 1034 East Levee Street, Brownsville, TX 78520.
City of Harlingen | Lon C. Hill Building, 502 East Tyler Avenue, Harlingen, TX 78550.
City of La Feria | City Hall, 115 East Commercial Avenue, La Feria, TX 78559.
City of Los Fresnos | City Hall, 200 North Brazil Street, Los Fresnos, TX 78566.
City of Los Indios | City Hall, 109 East 6th Street, Los Indios, TX 78567.
City of Port Isabel | City Hall, 305 East Maxan Street, Port Isabel, TX 78578.
City of Rio Hondo | Municipal Building, 121 North Arroyo Boulevard, Rio Hondo, TX 78583.
City of San Benito | Planning and Development Department, 400 North Travis Street, San Benito, TX 78586.
City of Santa Rosa | City Hall, 413 South Santa Cruz Avenue, Santa Rosa, TX 78593.
City of South Padre Island | City Hall, 4601 Padre Boulevard, South Padre Island, TX 78597.
Town of Bayview | Town Office, 104 South San Roman Road, Bayview, TX 78566.
Town of Combes | Town Hall, 21626 Hand Road, Combes, TX 78535.
Town of Indian Lake | Indian Lake Town Hall, 62 South Aztec Cove Drive, Los Fresnos, TX 78566.
Town of Laguna Vista | Town Hall, 122 Fernandez Street, Laguna Vista, TX 78578.
Town of Rancho Viejo | Town Hall, 3301 Carmen Avenue, Rancho Viejo, TX 78575.
Town of Rangerville | Harlingen Irrigation District, 301 East Pierce Avenue, Harlingen, TX 78550.
Unincorporated Areas of Cameron County | Cameron County, San Bentio Annex, 1390 West Expressway 83, San Benito, TX 78586.

[FR Doc. 2017-25619 Filed 11-27-17; 8:45 am]

BILLING CODE 9110-12-P